FEDERAL COMMUNICATIONS COMMISSION

47 CFR Part 73

[DA 02-2233; MB Docket No. 02-115; RM 02-10427]

Radio Broadcasting Services; Monroe and Luna Pier, MI

AGENCY: Federal Communications Commission.

ACTION: Final rule.

SUMMARY: In this document, the Commission reallots Channel 252A from Monroe to Luna Pier, Michigan, as the community's first local aural transmission service and modifies the license for Station WTWR-FM to reflect the changes. See 67 FR 40907 (06/14/2002). Station WTWR-FM has two preexisting short spacings grandfathered pursuant to Section 73.213 of the rules and the change of community is being implemented without any change in facilities at petitioner's existing transmitter site. Channel 252A is allotted at Luna Pier at petitioner's transmitter site which is 4.7 kilometers (2.9 miles) northwest of the community. Coordinates for Channel 252A at Luna Pier are 41-50-43 NL and 83-27-59 WL.

DATES: Effective November 4, 2002.

FOR FURTHER INFORMATION CONTACT: Victoria M. McCauley, Media Bureau, (202) 418-2180.

SUPPLEMENTARY INFORMATION: This is a synopsis of the Commission's Report and Order, MB Docket No. 02-115, adopted September 4, 2002, and released September 20, 2002. The full text of this Commission decision is available for inspection and copying during normal business hours in the FCC Reference Center (Room 239), 445 12th Street, SW., Washington, DC This document may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334, and 336.

2. Section 73.202(b), the Table of FM Allotments under Michigan, is amended by adding Luna Pier, Channel 252A, and removing Monroe, Channel 252A.

Federal Communications Commission.
John A. Karousos,
Assistant Chief, Audio Division, Media Bureau.

[FR Doc. 02-26231 Filed 10-15-02; 8:45 am]

BILLING CODE 6712-01-P